DEPARTMENT OF STATE

[Public Notice 3642]

Culturally Significant Objects Imported for Exhibition Determinations: “Glass of the Sultans”

Department: Department of State.

ACTION: Notice.

SUMMARY: Notice is hereby given of the following determinations.

Pursuant to the authority vested in me by the Act of October 19, 1965 [79 Stat. 985, 22 U.S.C. 2459], the Foreign Affairs Reform and Restructuring Act of 1998 [112 Stat. 2681 et seq.], Delegation of Authority No. 234 of October 1, 1999 [64 FR 56014], and Delegation of Authority No. 236 of October 19, 1999 [64 FR 57920], as amended, I hereby determine that the objects to be included in the exhibit, “Glass of the Sultans” imported from abroad for the temporary exhibition without profit within the United States, are of cultural significance. These objects will be imported pursuant to loan agreements with foreign lenders. I also determine that the temporary exhibition or display of the exhibit objects at the Corning Museum of Glass, in Corning, New York, from on or about May 24, 2001, to on or about September 3, 2001, and at the Metropolitan Museum of Art, in New York, New York, from on or about October 1, 2001, to on or about January 13, 2002, is in the national interest. Public Notice of these determinations is ordered to be published in the Federal Register.

FOR FURTHER INFORMATION CONTACT: For further information, including a list of exhibit objects, contact Julianne Simpson, Attorney-Adviser, Office of the Legal Adviser, U.S. Department of State (telephone: 202/619-6529). The address is U.S. Department of State, SA-44, 301 4th Street, SW, Room 700, Washington, DC 20547-0001.

Dated: April 6, 2001.
Helena Kane Finn,
Acting Assistant Secretary for Educational and Cultural Affairs, Department of State.

[FR Doc. 01-9078 Filed 4-11-01; 8:45 am]

BILLING CODE 4710-08-P